DEPARTMENT OF HOMELAND SECURITY

Coast Guard

[USCG-2011-0948]

Great Lakes Pilotage Advisory Committee

AGENCY: Coast Guard, DHS.

ACTION: Committee Management; Notice of Federal Advisory Committee Meeting; correction.

SUMMARY: The Coast Guard published in the Federal Register of October 4, 2011, a notice announcing a Great Lakes Pilotage Advisory Committee (GLPAC) public meeting on October 18, 2011, in Washington, District of Columbia. This notice corrects that previous notice to add an explanation for why 15-days advance notice was not given.

DATES: GLPAC will meet on Tuesday, October 18, 2011, from 9 a.m. to 4 p.m. Please note the meeting may close early if the committee completes its business. Written material and requests to make oral presentations should reach us on or before October 14, 2011.

ADDRESSES: The meeting will be held at Coast Guard Headquarters, 2100 2nd Street Southwest, Washington, District of Columbia 20593, in conference room 51309.

FOR FURTHER INFORMATION CONTACT: Mr. David Dean, GLPAC Assistant Designated Federal Officer (ADFO), Commandant (CG-5522), U.S. Coast Guard Headquarters, 2100 Second Street, SW., Stop 7580, Washington, DC 20593-7580; telephone 202-372-1533, fax 202-372-1909, or e-mail at David.J.Dean@uscg.mil.

SUPPLEMENTARY INFORMATION: The Coast Guard's October 4, 2011 notice of the October 18, 2011, GLPAC meeting inadvertently failed to contain an explanation for its publication less than 15 calendar days prior to the meeting, as required by General Services Administration rules 41 CFR 102-3.150(b). The reason the notice was published only 14 calendar days prior to the meeting was a Coast Guard administrative delay. The Coast Guard regrets the delay in publication, but notes that the notice was published 14 days prior to the meeting and was publicly available on the Federal Register Web site 19 calendar days prior to the meeting. Additionally, all known interested parties were made aware of the meeting with sufficient time for planning purposes.

It is critical that this meeting be held on the announced meeting date because the advisory committee members have limited availability for the remainder of the calendar year. Delays in committee discussions could have significant ramifications for ongoing Coast Guard studies and evaluations on the agenda for the upcoming meeting. Maintaining the current meeting schedule allows the Coast Guard to continue deliberations and forward progress regarding the bridge hour study, a key component of the statutory ratemaking authority of the Great Lakes Pilotage program.

If you have been adversely affected by the one-day delay in publishing the notice, contact Mr. David Dean (see FOR FURTHER INFORMATION CONTACT) and the Coast Guard will make every effort to accommodate you.

Dated: September 29, 2011.
Kathryn A. Sinniger,
Chief, Office of Regulations and Administrative Law (CG-0943), U.S. Coast Guard.

[FR Doc. 2011-25817 Filed 10-5-11; 8:45 am]

BILLING CODE 9110-04-P